DEPARTMENT OF LABOR

Mine Safety and Health Administration

Petitions for Modification

The following parties have filed petitions to modify the application of existing safety standards under section 101(c) of the Federal Mine Safety and Health Act of 1977.

1. Goodin Creek Mining Company, Inc.

[Docket No. M-2004-014-C]

Goodin Creek Mining Company, Inc., 340 South Broadway, Suite 200, Lexington, Kentucky 40508 has filed a petition to modify the application of 30 CFR 75.342 (Methane monitors) to its Mine #1 (MSHA I.D. No. 15-18176) located in Knox County, Kentucky. The petitioner proposes to use a hand-held continuous-duty methane and oxygen detector on each coal hauling three-wheel tractor with drag bottom buckets in lieu of using machine mounted methane monitors. The petitioner states that the tractor operator will be trained in the proper use of the oxygen detector. The petitioner has listed in this petition specific terms and conditions that would be implemented when using its proposed alternative method at the Goodin Creek Mining Company, Inc., Mine #1. The petitioner asserts that the proposed alternative method would provide at least the same measure of protection as the existing standard.

2. Oxbow Mining, LLC

[Docket No. M-2004-015-C]

Oxbow Mining, LLC, P.O. Box 535, 3737 Highway 133, Somerset, Colorado 81434 has filed a petition to modify the application of 30 CFR 75.1100-2(b) (Quantity and location of firefighting equipment) to its Elk Creek Mine (MSHA I.D. No. 05-04674) located in Gunnison County, Colorado. The petitioner requests a modification of the existing standard to permit an alternative method for installing water lines for the entire length of the belt conveyors, in lieu of keeping the water line charged with water at all times, because in February 2003, the Oxbow Mining, LLC was granted a petition for modification to allow the use of intake air coursed through conveyor belt entries and the belt entry portal sits at approximately 6300 feet elevation, which causes freezing conditions of the existing water line in the conveyor entry during the winter. The petitioner asserts that the proposed alternative method would provide at least the same measure of protection as the existing standard.

3. Dolet Hills Lignite Company

[Docket No. M-2004-016-C]

Dolet Hills Lignite Company, 377 Highway 522, Mansfield, Louisiana 71052 has filed a petition to modify the application of 30 CFR 77.803 (Fail safe ground check circuits on high-voltage resistance grounded systems) to its Dolet Hills Lignite Mine (MSHA I.D. No. 16-01031) located in De Soto County, Louisiana. The petitioner requests a modification of the existing standard to allow an alternative method of compliance when raising or lowering the boom/mast at construction sites during initial Dragline assembly. The petitioner states that this method would only be used during the boom/mast raising/lowering process, and when raising and lowering the boom for construction/maintenance, the machine will not be performing mining operations. The procedure would also be applicable in instances of disassembly or major maintenance which require the boom to be raised or lowered. The petitioner has listed specific guidelines in this petition that would be followed to minimize the potential for electrical power loss during this critical boom procedure. The petitioner asserts that this procedure does not replace other mechanical precautions or the requirements 30 CFR 77.405(b) that are necessary to safely secure boom/masts during construction or maintenance procedures and that its proposed alternative method would not result in a diminution of safety to the miners, but would provide the same measure of protection to the miners as the existing standard.

4. Meadow Branch Mining Corporation

[Docket No. M-2004-017-C]

Meadow Branch Mining Corporation, P.O. Box 2560, Wise, Virginia 24293 has filed a petition to modify the application of 30 CFR 75.350 (Air courses and belt haulage entries) to its Low Splint No. 1 Mine (MSHA I.D. No. 44-06883) located in Wise County, Virginia. The petitioner requests a modification of the existing standard to permit the use of belt air to ventilate active working places. The petitioner proposes to install a carbon monoxide monitoring system as an early warning fire detection system in all belt entries used to course intake air to a working place. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before June 1, 2004. Copies of these petitions are available for inspection at that address.

Dated in Arlington, Virginia this 23rd day of April, 2004.
Marvin W. Nichols, Jr.,
Director, Office of Standards, Regulations, and Variances.

[FR Doc. 04-9747 Filed 4-28-04; 8:45 am]

BILLING CODE 4510-43-P